DEPARTMENT OF JUSTICE

National Institute of Corrections

Solicitation for a Cooperative Agreement—Direct Supervision: Curriculum Development

AGENCY: National Institute of Corrections, Department of Justice

ACTION: Solicitation for a Cooperative Agreement

SUMMARY: The National Institute of Corrections (NIC), Jails Division, is seeking applications for the development of two training program curricula: one that focuses on the role of the housing-unit officer and shift supervisor in a direct supervision jail and another that focuses on the role of the administrator in a direct supervision jail. The project will be for an eighteen-month period, and will be carried out in conjunction with the NIC Jails Division. NIC Jails Division staff will direct the project and will participate in curriculum design, lesson plan development, and the creation of training-related materials.

DATES: Applications must be received by 4 p.m. (EDT) on Friday, July 24, 2009.

ADDRESSES: Mailed applications must be sent to: Director, National Institute of Corrections, 320 First Street, NW., Room 5007, Washington, DC 20534. Applicants are encouraged to use Federal Express, UPS, or a similar service to ensure delivery by the due date.

Applicants who wish to hand-deliver their applications should bring them to 500 First Street, NW., Washington, DC 20534 and dial (202) 307-3106, ext. 0 at the front desk for pickup.

Faxed or e-mailed applications will not be accepted.

FOR FURTHER INFORMATION: A copy of this announcement can be downloaded from the NIC Web page at http://www.nicic.gov/cooperativeagreements.

All technical or programmatic questions concerning this announcement should be directed to Robbye Braxton-Mintz, Correctional Program Specialist, National Institute of Corrections. Ms. Braxton-Mintz can reached by calling 1-800-995-6423 ext. 4-4562 or by e-mail at rbraxtonmintz@bop.gov.

SUPPLEMENTARY INFORMATION:

Background: Direct supervision jails combine a physical plant design, interior fixtures and furnishings, and an inmate management philosophy to significantly reduce the problems commonly associated with jails, such as violence, vandalism, inmate rule violations, and unsanitary conditions. Direct supervision is based on eight principles: (1) Effective control, (2) effective supervision, (3) competent staff, (4) safety of staff and inmates, (5) manageable and cost-effective operations, (6) effective communication, (7) classification and orientation, and (8) justice and fairness.

Although all staff in a direct supervision jail must understand the principles and their operational implications, there are three staff positions that are key in the implementation of direct supervision: the jail administrator, the shift supervisors, and the housing-unit staff. With the development of these two curricula, NIC will be able to offer training programs that will better prepare staff in each of these positions to carry out their duties in support of direct supervision.

The two curricula are: “The Role of the Housing Officer and Supervisor in a Direct Supervision Jail” and “The Role of the Administrator in a Direct Supervision Jail—Commitment, Leadership, and Support.”

“The Role of the Housing Officer and Supervisor in a Direct Supervision Jail” curriculum will focus on the role of the housing-unit officer and the shift supervisor in a direct supervision jail. It will be based on the NIC program titled “How to Run a Direct Supervision Housing Unit: Training for Trainers.” This program is currently designed to familiarize staff trainers in jails with “How to Run a Direct Supervision Housing Unit,” and prepare them to conduct this program for staff in their own jail.

Under this cooperative agreement project, the “How to Run a Direct Supervision Housing Unit”, curriculum will be updated. Participants will be teams of two trainers and two shift supervisors from each participating jail. This program will consist of two phases. At the completion of the first phase, the trainers and shift supervisors will split up and receive additional instruction. For the trainers, the instruction will focus on how to conduct this training program for staff in their own jail. For the supervisors, the instruction will focus on their role in supporting the officer in effective housing-unit management. There should be the opportunity for participant teams to develop an action plan to conduct “How to Run a Direct Supervision Housing Unit” for their housing-unit staff.

“The Role of the Administrator in a Direct Supervision Jail—Commitment, Leadership, and Support” will be a new curriculum focusing on the role of the administrator in a direct supervision jail. It will include, at a minimum, a discussion of the direct supervision principles; the jail administrator's leadership role related specifically to direct supervision; recruiting, hiring, promoting, and training staff in support of direct supervision; common challenges in implementing and sustaining direct supervision operations; decision making within the context of direct supervision; and assessing operations and operational outcomes within the framework of direct supervision. Only administrators will be participants in this program.

Objectives: Two training curricula are to be developed. The first will focus on the role of the housing-unit officer and the shift supervisor in implementing and supporting direct supervision. The second will focus on the role of the jail administrator in providing leadership and support for direct supervision.

Use of Curricula: NIC will use these curricula as the basis for its training programs on the role of the housing unit officer, shift supervisor, and administrator in a direct supervision jail.

The curricula will become the sole property of NIC, and will not be published for general distribution; however, curricula materials will be made available to training participants.

Scope of Work: The work will involve the production of two complete curricula, each of which will include: program description (overview); detailed narrative lesson plans; presentation slides for each lesson plan, and; participant manual that follows the lesson plans.

The curricula will be designed for adult learners and will take into account the need to accommodate a variety of learning styles. Lesson plans will be in a format provided by NIC.

The schedule for the development of both curricula will include, at a minimum, the following activities: meet with NIC project manager for project overview and initial planning; review materials provided by NIC; meet with NIC staff to draft a framework for each curriculum, including content topics, sequencing, and time frames; meet with NIC staff to outline content for each module and assign writers (including one NIC staff); write lesson plans; exchange lessons plans among the writers for review; revise lesson plans; send lesson plans to advisory committee for review and comment (committee is composed of five members identified by NIC and paid by the awardee); meet with NIC staff to review comments and agree on revisions; revise lesson plans; develop participant manual, presentation slides, and program overview; submit final draft of all materials to NIC for review; revise as directed by NIC; and submit final curricula in camera-ready hard copy and on disk in Word format.

“The Role of the Housing Officer and Supervisor in a Direct Supervision Jail” is to be developed first. Because of the length and complexity of this curricula, lesson plans should be grouped into thirds for development. Also, this curriculum is to be piloted in the Washington, DC area. To conduct the pilot, the awardee will hire four instructors for this nine-day program and pay for their fees, travel, lodging, meals, and any other related expenses. NIC will secure training space and equipment, select participants, and pay for all costs related to participant materials and participant travel, lodging, and meals, where necessary. The pilot will be conducted after all lesson plans, presentation slides, and the participant manual are drafted.

“The Role of the Administrator in a Direct Supervision Jail—Commitment, Leadership, and Support” is to be developed second and will be informed, at least in part, by the first curriculum. This curriculum will not be piloted under this cooperative agreement.

Application Requirements: An application package must include OMB Standard Form 425, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (all OMB Standard Forms are available at http://www.grants.gov); DOJ/FBOP/NIC Certification Regarding Lobbying, Debarment, Suspension and Other Responsibility Matters; and the Drug-Free Workplace Requirements (available at http://www.nicic.org/Downloads/PDF/certif-frm.pdf.) Applications should be concisely written, typed double-spaced and reference the NIC Opportunity Number and Title provided in this announcement.

For applications that are hand delivered or submitted via Fed-Ex, please include an original and three copies of the full proposal (program and budget narrative, application forms, assurances, and sample curriculum.) (Note that sample curriculum may be submitted in hard copy or on disk in Word or WordPerfect format.) The original package should have the applicant's signature in blue ink. Electronic submissions will only be accepted via http://www.grants.gov.

The narrative portion of the application should include, at a minimum, a brief paragraph indicating the applicant's understanding of the project's purpose; brief paragraph that summarizes the project goals and objectives; clear description of the methodology that will be used to complete the project and achieve its goals; statement or chart of measurable project milestones and time lines for the completion of each milestone; description of the qualifications of the applicant organization and a resume for the principle and each staff member assigned to the project that documents relevant knowledge, skills and ability to carry out the project; and a budget that details all costs for the project, shows consideration for all contingencies for this project, and notes a commitment to work within the proposed budget.

In addition, a curriculum developed by the applicant or primary project-team members must be included as a part of the application package. This curriculum must include lesson plans, presentation slides, and a participant manual. There must also be a description of the role of the applicant or project-team member in the development of this sample curriculum. The curriculum submitted DOES NOT have to be related to direct supervision.

Authority: Public Law 93-415.

Funds Available: NIC is seeking applicants' best ideas regarding accomplishments of the scope of work and the related costs for achieving the goals of this solicitation. Funds may only be used for the activities that are linked to the desired outcome of the project.

Eligibility of Applicants: An eligible applicant is any State or general unit of local government, private agency, educational institution, organization, individual or team with expertise in the described areas. Applicants must have demonstrated ability to implement a project of this size and scope.

Review Considerations: Applications will be evaluated by a three to five member review panel. The criteria for the evaluation of each application will be as follows:

Programmatic—16%

Is there a clear understanding of the purpose of the project and scope of project activities? Does the applicant define all work and related resources required? Is there a clear understanding of the unique operational elements of a direct supervision training? Is there a clear understanding of the different roles of the administrator, supervisor and line staff in a direct supervision jail? Is there an innovative aspect to the applicant's approach or design that merits special consideration?

Organization—20%

Is there a description of the background and expertise of all project personnel as they relate to this project? Do key project team members (individually or collectively) have experience with and expertise in jails generally and direct supervision jails specifically; have experience in designing, managing, facilitation or delivering training on direct supervision; have the skill, ability and expertise to fulfill the intent and purpose of their identified roles? Including any sub-awardee relationship proposed is the organization capable of developing, managing and controlling this type of project? Does the staffing plan propose sufficient and realistic time commitment from key personnel?

Project Management—18%

Does the applicant provide a clear, complete and precise description of the design and methodology for the proposed project? Does the applicant include measurable goals and specific quantifiable objectives? Does the application identify reasonable tasks and milestones in order to achieve goals and objectives? Does the applicant describe realistic and reasonable time frames to accomplish all project activities?

Budget—7%

Does the applicant provide adequate project cost detail/narrative to support the proposed budget? Is the estimated cost reasonable in relation to the anticipated results?

Curricula Review—39%

Has the applicant provided a sample of their curriculum including lesson plans, participant manuals or presentation slides? Is the curriculum design based on Instructional Theory Into Practice model? Do lesson plans include measurable performance objectives and are they well written (spelling, grammar)? Is the participant manual clear and does it follow the lesson plans? Do the presentation slides illustrate information from the lesson plans and do they have eye appeal?

Note: NIC will not award a cooperative agreement to an applicant who does not have a Dun and Bradstreet Database Universal Number (DUNS) and is not registered in the Central Contractor Registry (CCR).

Applicants can receive a DUNS number at no cost by calling the dedicated toll-free DUNS number request line at 1-800-333-0505 (if you are a sole proprietor, dial 1-866-705-5711 and select option 1).

Applicants may register in the CCR online at the CCR Web site: http://www.ccr.gov. A CCR handbook and worksheet can also be reviewed at the Web site.

Number of Awards: One.

NIC Opportunity Number: 09J72. This number should appear as a reference line in the cover letter, where the opportunity number is requested on the Standard Form 424, and outside of the envelope in which the application is sent.

Questions and Answers: Any questions not addressed through this announcement can be submitted in writing to Robbye Braxton-Mintz via e-mail (rbraxtonmintz@bop.gov). Only questions received by 4 p.m. (EDT) on Wednesday, July 15, 2009 will be answered. Answers will be posted on NIC's Web site by 4 p.m. (EDT) on Friday, July 17, 2009.

Catalog of Federal Domestic Assistance Number: 16.601.

Executive Order 12372: This project is not subject to the provision of Executive Order 12372.

Morris L. Thigpen,
Director, National Institute of Corrections.

[FR Doc. E9-15548 Filed 6-30-09; 8:45 am]

BILLING CODE 4410-36-P